NATIONAL CREDIT UNION ADMINISTRATION

Agency Information Collection Activities: Proposed Collection; Comment Request; Security Program

AGENCY: National Credit Union Administration (NCUA).

ACTION: Notice and request for comment.

SUMMARY: The National Credit Union Administration (NCUA), as part of a continuing effort to reduce paperwork and respondent burden, invites the general public and other Federal agencies to comment on the following extension of a currently approved collection, as required by the Paperwork Reduction Act of 1995.

DATES: Written comments should be received on or before January 7, 2020 to be assured consideration.

ADDRESSES: Interested persons are invited to submit written comments on the information collection to Mackie Malaka, National Credit Union Administration, 1775 Duke Street, Suite 6060, Alexandria, Virginia 22314; Fax No. 703-519-8579; or email at PRAComments@NCUA.gov.

FOR FURTHER INFORMATION CONTACT: Address requests for additional information to Mackie Malaka at the address above or telephone 703-548-2704.

SUPPLEMENTARY INFORMATION:

OMB Number: 3133-0033.

Title: Security Program, 12 CFR part 748.

Form: None.

Type of Review: Extension of a currently approved collection.

Abstract: In accordance with Title V of the Gramm-Leach-Bliley Act (15 U.S.C. 6801 et seq.), as implemented by 12 CFR part 748, federally-insured credit unions (FICU) are required to develop and implement a written security program to safeguard sensitive member information. This information collection requires that such programs be designed to respond to incidents of unauthorized access or use, in order to prevent substantial harm or serious inconvenience to members.

Affected Public: Private Sector: Not-for-profit institutions.

Estimated Number of Respondents: 5,308.

Estimated Number of Responses per Respondent: 30.

Estimated Total Annual Responses: 159,240.

Estimated Burden Hours per Response: 2.0.

Estimated Total Annual Burden Hours: 318,480.

Reason for Change: Adjustments have been made to the current number of FICUs based on the June call report to 5308. NCUA has also revised the number of responses per respondent (frequency) and adjusted the times where necessary to reflect a more accurate accounting of the burden associated with this reporting and recordkeeping requirement.

Request for Comments: Comments submitted in response to this notice will be summarized and included in the request for Office of Management and Budget approval. All comments will become a matter of public record. The public is invited to submit comments concerning: (a) Whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on November 5, 2019.

Dated: November 5, 2019.
Mackie I. Malaka,
NCUA PRA Clearance Officer.

[FR Doc. 2019-24432 Filed 11-7-19; 8:45 am]

BILLING CODE 7535-01-P